SUSQUEHANNA RIVER BASIN COMMISSION

Projects Approved for Consumptive Uses of Water

AGENCY: Susquehanna River Basin Commission.

ACTION: Notice.

SUMMARY: This notice lists Approvals by Rule for projects by the Susquehanna River Basin Commission during the period set forth in DATES.

DATES: January 1-31, 2023.

ADDRESSES: Susquehanna River Basin Commission, 4423 North Front Street, Harrisburg, PA 17110-1788.

FOR FURTHER INFORMATION CONTACT: Jason E. Oyler, General Counsel and Secretary to the Commission, telephone: (717) 238-0423, ext. 1312; fax: (717) 238-2436; email: joyler@srbc.gov. Regular mail inquiries may be sent to the above address.

SUPPLEMENTARY INFORMATION: This notice lists the projects, described below, receiving approval for the consumptive use of water pursuant to the Commission's approval by rule process set forth in 18 CFR 806.22(f) for the time period specified above.

Water Source Approval—Issued Under 18 CFR 806.22(f)

1. RENEWAL—BKV Operating, LLC; Pad ID: Macialek 1 Pad; ABR-201201010.R2; Washington Township, Wyoming County, Pa.; Consumptive Use of Up to 5.0000 mgd; Approval Date: January 16, 2024.

2. RENEWAL—Chesapeake Appalachia, L.L.C.; Pad ID: Elwell; ABR-201201009.R2; Wilmot Township, Bradford County, Pa.; Consumptive Use of Up to 7.5000 mgd; Approval Date: January 16, 2024.

3. RENEWAL—Chesapeake Appalachia, L.L.C.; Pad ID: Redbone; ABR-201201004.R2; Wilmot Township, Bradford County, Pa.; Consumptive Use of Up to 7.5000 mgd; Approval Date: January 16, 2024.

4. RENEWAL—EQT ARO LLC; Pad ID: Lycoming H&FC Pad F; ABR-201309015.R2; Lewis Township, Lycoming County, Pa.; Consumptive Use of Up to 4.0000 mgd; Approval Date: January 16, 2024.

5. RENEWAL—SWN Production Company, LLC; Pad ID: FLICKS RUN; ABR-201201011.R2; Cogan House Township, Lycoming County, Pa.; Consumptive Use of Up to 4.9990 mgd; Approval Date: January 16, 2024.

6. RENEWAL—SWN Production Company, LLC; Pad ID: TI-46 Bliss Pad; ABR-201701001.R1; Liberty Township, Tioga County, Pa.; Consumptive Use of Up to 4.9990 mgd; Approval Date: January 16, 2024.

7. RENEWAL—XPR Resources LLC; Pad ID: Alder Run Land 3H; ABR-201812003.R1; Cooper Township, Clearfield County, Pa.; Consumptive Use of Up to 0.9900 mgd; Approval Date: January 16, 2024.

8. RENEWAL—XPR Resources LLC; Pad ID: Alder Run Land LP 1H; ABR-201812002.R1; Cooper Township, Clearfield County, Pa.; Consumptive Use of Up to 0.9900 mgd; Approval Date: January 16, 2024.

9. SWN Production Company, LLC; Pad ID: NR 13 Brant West; ABR-202401001; Great Bend Township, Susquehanna County, Pa.; Consumptive Use of Up to 4.9990 mgd; Approval Date: January 16, 2024.

10. RENEWAL—Chesapeake Appalachia, L.L.C.; Pad ID: Alvarez; ABR-201301012.R2; Wilmot Township, Bradford County and Windham Township, Wyoming County, Pa.; Consumptive Use of Up to 7.5000 mgd; Approval Date: January 28, 2024.

11. RENEWAL—Coterra Energy Inc.; Pad ID: SquierR P1; ABR-201401004.R2; Brooklyn Township, Susquehanna County, Pa.; Consumptive Use of Up to 5.0000 mgd; Approval Date: January 28, 2024.

12. RENEWAL—Repsol Oil & Gas USA, LLC; Pad ID: Johnson (02 135) K; ABR-201701003.R1; Hamilton Township, Tioga County, Pa.; Consumptive Use of Up to 6.0000 mgd; Approval Date: January 28, 2024.

13. RENEWAL—Seneca Resources Company, LLC; Pad ID: Tolbert 263; ABR-201201022.R2; Jackson Township, Tioga County, Pa.; Consumptive Use of Up to 4.0000 mgd; Approval Date: January 28, 2024.

14. RENEWAL—SWN Production Company, LLC; Pad ID: HEBDA-VANDEMARK; ABR-201201025.R2; Stevens Township, Bradford County, Pa.; Consumptive Use of Up to 4.9990 mgd; Approval Date: January 28, 2024.

15. RENEWAL—Chesapeake Appalachia, L.L.C.; Pad ID: Fox; ABR-201201007.R2; Mehoopany Township, Wyoming County, Pa.; Consumptive Use of Up to 7.5000 mgd; Approval Date: January 30, 2024.

16. RENEWAL—Chesapeake Appalachia, L.L.C.; Pad ID: HOFFMAN UNIT PAD; ABR-201901002.R1; Overton Township, Bradford County, Pa.; Consumptive Use of Up to 7.5000 mgd; Approval Date: January 30, 2024.

17. RENEWAL—Chesapeake Appalachia, L.L.C.; Pad ID: Kathryn; ABR-201201006.R2; Wilmot Township, Bradford County, Pa.; Consumptive Use of Up to 7.5000 mgd; Approval Date: January 30, 2024.

18. RENEWAL—Chesapeake Appalachia, L.L.C.; Pad ID: Raimo; ABR-201201005.R2; Monroe Township, Bradford County, Pa.; Consumptive Use of Up to 7.5000 mgd; Approval Date: January 30, 2024.

19. RENEWAL—Chesapeake Appalachia, L.L.C.; Pad ID: Ridenour; ABR-201201008.R2; Cherry Township, Sullivan County, Pa.; Consumptive Use of Up to 7.5000 mgd; Approval Date: January 30, 2024.

20. RENEWAL—Chesapeake Appalachia, L.L.C.; Pad ID: Rogers Drilling Pad; ABR-201401006.R2; Lenox Township, Susquehanna County, Pa.; Consumptive Use of Up to 7.5000 mgd; Approval Date: January 30, 2024.

21. RENEWAL—Chesapeake Appalachia, L.L.C.; Pad ID: Yoder Drilling Pad #1; ABR-201201003.R2; Leroy Township, Bradford County, Pa.; Consumptive Use of Up to 7.5000 mgd; Approval Date: January 30, 2024.

22. RENEWAL—Range Resources—Appalachia, LLC; Pad ID: Corson, Eugene 1H-6H; ABR-201201017.R2; Anthony Township, Lycoming County, Pa.; Consumptive Use of Up to 4.0000 mgd; Approval Date: January 30, 2024.

23. RENEWAL—Repsol Oil & Gas USA, LLC; Pad ID: COOLEY (05 266) D; ABR-201901003.R1; Pike Township, Bradford County, Pa.; Consumptive Use of Up to 6.0000 mgd; Approval Date: January 30, 2024.

24. RENEWAL—SWN Production Company, LLC; Pad ID: NR-15-HUGHES-PAD; ABR-201401007.R2; Great Bend Township, Susquehanna County, Pa.; Consumptive Use of Up to 4.9990 mgd; Approval Date: January 30, 2024.

25. RENEWAL—SWN Production Company, LLC; Pad ID: WY 04 DIMMIG; ABR-201401009.R2; Forkston Township, Wyoming County, Pa.; Consumptive Use of Up to 4.9990 mgd; Approval Date: January 30, 2024.

26. RENEWAL—Chesapeake Appalachia, L.L.C.; Pad ID: Burkhart; ABR-201201028.R2; Forks Township, Sullivan County, Pa.; Consumptive Use of Up to 7.5000 mgd; Approval Date: January 31, 2024.

27. RENEWAL—Chesapeake Appalachia, L.L.C.; Pad ID: Calmitch; ABR-201201029.R2; Wilmot Township, Bradford County, Pa.; Consumptive Use of Up to 7.5000 mgd; Approval Date: January 31, 2024.

28. RENEWAL—Chesapeake Appalachia, L.L.C.; Pad ID: Finan; ABR-201301014.R2; Wilmot Township, Bradford County, Pa.; Consumptive Use of Up to 7.5000 mgd; Approval Date: January 31, 2024.

29. RENEWAL—Chesapeake Appalachia, L.L.C.; Pad ID: Rosiemar; ABR-201301016.R2; Auburn Township, Susquehanna County, Pa.; Consumptive Use of Up to 7.5000 mgd; Approval Date: January 31, 2024.

30. RENEWAL—Repsol Oil & Gas USA, LLC; Pad ID: Barner 709; ABR-201201031.R2; Liberty Township, Tioga County, Pa.; Consumptive Use of Up to 6.0000 mgd; Approval Date: January 31, 2024.

Authority: Public Law 91-575, 84 Stat. 1509 et seq., 18 CFR parts 806 and 808.

Dated: February 28, 2024.
Jason E. Oyler,
General Counsel and Secretary to the Commission.

[FR Doc. 2024-04539 Filed 3-4-24; 8:45 am]

BILLING CODE 7040-01-P